DEPARTMENT OF LABOR

Employment and Training Administration

[TA-W-73,722]

Sojitz Corporation of America, a Subsidiary of Sojitz Corporation, Forest Products Department, Seattle, WA; Notice of Revised Determination on Reconsideration

By application dated September 23, 2010, a State of Washington workforce official, on behalf of two workers, requested administrative reconsideration of the Department's negative determination regarding the eligibility of workers and former workers of Sojitz Corporation of America, a subsidiary of Sojitz Corporation, Forest Products Department, Seattle, Washington (subject firm) to apply for Trade Adjustment Assistance. On October 18, 2010, the Department issued a Notice of Affirmative Determination Regarding Application for Reconsideration applicable to workers of the subject firm. The Notice was published in the Federal Register on October 25, 2010 (75 FR 65515). The subject workers are engaged in employment related to the supply of services related to the trade of forest products.

During the reconsideration investigation, the Department received information that revealed that the subject firm had shifted to a foreign country the supply of services like or directly competitive with the services supplied by the subject workers, and that the shift to Canada contributed importantly to worker group separations at the subject firm.

Conclusion

After careful review of the additional facts obtained on reconsideration, I determine that workers of the subject firm, who are engaged in employment related to the supply of forest product services, meet the worker group certification criteria under Section 222(a) of the Act, 19 U.S.C. 2272(a). In accordance with Section 223 of the Act, 19 U.S.C. 2273, I make the following certification:

“All workers of Sojitz Corporation of America, a subsidiary of Sojitz Corporation, Forest Products Department, Seattle, Washington, who became totally or partially separated from employment on or after March 15, 2009, through two years from the date of this revised certification, and all workers in the group threatened with total or partial separation from employment on date of certification through two years from the date of certification, are eligible to apply for adjustment assistance under Chapter 2 of Title II of the Trade Act of 1974, as amended.”

Signed in Washington, DC, this 3rd day of December, 2010.
Del Min Amy Chen,
Certifying Officer, Office of Trade Adjustment Assistance.

[FR Doc. 2010-31136 Filed 12-10-10; 8:45 am]

BILLING CODE 4510-FN-P